DEPARTMENT OF COMMERCE

National Oceanic and Atmospheric Administration

[I.D. 053106B]

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council); its Magnuson-Stevens Act (MSA) Reauthorization Committee; its Squid, Mackerel, Butterfish Committee with Advisors; the Joint Dogfish Committee; its Law Enforcement Committee; its Surfclam, Ocean Quahog, Tilefish Committee with Advisors; and, its Executive Committee will hold public meetings.

DATES: The meetings will be held Tuesday, June 20, 2006 through Thursday, June 22, 2006. See SUPPLEMENTARY INFORMATION for the meeting agenda.

ADDRESSES: The meetings will be held at The Doubletree Hotel, 700 N. King Street, Wilmington, DE 19801, telephone: (302) 655-0400.

Council address: Mid-Atlantic Fishery Management Council, 300 S. New Street, Dover, DE 19904; telephone: (302) 674-2331.

FOR FURTHER INFORMATION CONTACT: Daniel T. Furlong, Executive Director, Mid-Atlantic Fishery Management Council; telephone: (302) 674-2331, extension 19.

SUPPLEMENTARY INFORMATION:

Tuesday, June 20, 2006

From 9 a.m. until 12 noon, the MSA Committee will meet, to review side-by-side analyses of the MSA Reauthorization Bills and develop Council comments for Congressional feedback.

From 1 p.m. until 4 p.m., the Squid, Mackerel, Butterfish Committee will meet with its Advisors to review the Monitoring Committee's recommendations for 2007 quota levels and associated management measures and to develop 2007 quota specifications and associated management measures for Council consideration and action.

From 4 p.m. until 5:30 p.m., the Joint Dogfish Committee will meet to review preliminary data updates for spiny dogfish and review NMFS final rule for the 2006-08 fishing years.

Wednesday, June 21, 2006

From 8 a.m. until 8:30 a.m., the Law Enforcement Committee will meet to review the Council's Fisheries Achievement Award (FAA) process.

From 8:30 a.m. to 10:30 a.m., the Surfclam, Ocean Quahog, Tilefish Committee with Advisors will meet to discuss the Tilefish Advisory Panel appointment process and to review staff recommendations for the 2007 quota specifications and associated management measures for surfclams and ocean quahogs.

From 10:30 a.m. until noon, the Council will convene to approve its May 2006 Council meeting minutes, approve actions from the May Council meeting, and receive various reports provided to the Council during its regular business session.

From 1 p.m. until 2:30 p.m., the Council will review the Surfclam and Ocean Quahog Committee's recommendations for the 2007 quota specifications and associated management measures, and develop and adopt quota specifications and associated management measures for year three (2007) of the three year multi-year specification program.

From 2:30 p.m. until 5 p.m., the Council will review the Squid, Mackerel, Butterfish Committee's recommendations for the 2007 quota specifications and associated management measures, and develop and adopt quota specifications and associated management measures for 2007.

Thursday, June 22, 2006

From 8 a.m. to 9:30 a.m., the Executive Committee will meet to review outcomes from the May Council Chairmen and Executive Directors meeting with officials of the NMFS and discuss permitting in the recreational fishery.

At 9:30 a.m., the Council will convene to receive a presentation by the U.S. Coast Guard on Rescue 21, receive Committee reports, and address any continuing or new business.

Although non-emergency issues not contained in this agenda may come before the Council and its Committees for discussion, these issues may not be the subject of formal Council or Committee action during these meetings. Council and Committee action will be restricted to those issues specifically listed in this notice and any issues arising after publication of this notice that require emergency action under section 305(c) of the Magnuson-Stevens Act provided the public has been notified of the Council's intent to take final actions to address such emergencies.

Special Accommodations

The meetings are physically accessible to people with disabilities. Requests for sign language interpretation or other auxiliary aids should be directed to M. Jan Saunders at (302) 674-2331 extension 18, at least 5 days prior to the meeting date.

Dated: May 31, 2006.
Tracey L. Thompson,
Acting Director, Office of Sustainable Fisheries Service, National Marine Fisheries Service.

[FR Doc. E6-8674 Filed 6-2-06; 8:45 am]

BILLING CODE 3510-22-S